SMALL BUSINESS ADMINISTRATION

[Declaration of Disaster #3426]

State of Arizona; Amendment #2

In accordance with a notice received from the Federal Emergency Management Agency, dated July 7, 2002, the above numbered declaration is hereby amended to establish the incident period for this disaster as beginning on June 18, 2002 and continuing through July 7, 2002.

All other information remains the same, i.e., the deadline for filing applications for physical damage is August 24, 2002, and for economic injury the deadline is March 25, 2003.

(Catalog of Federal Domestic Assistance Program Nos. 59002 and 59008)

Dated: July 10, 2002.
Becky C. Brantley,
Acting Associate Administrator for Disaster Assistance.

[FR Doc. 02-17889 Filed 7-15-02; 8:45 am]

BILLING CODE 8025-01-P